SECURITIES AND EXCHANGE COMMISSION

Issuer Delisting; Notice of Application to Withdraw from Listing and Registration on the Pacific Exchange, Inc. (Pharmaceutical Resources, Inc., Common Stock, of $.01 Par Value, and Common Stock Purchase Rights) File No. 1-10827

September 24, 2001.

Pharmaceutical Resources, Inc., a New Jersey corporation (“Issuer”), has filed an application with the Securities and Exchange Commission (“Commission”), pursuant to Section 12(d) of the Securities Exchange Act of 1934 (“Act”) ¹ and Rule 12d2-2(d) thereunder,² to withdraw its Common Stock, $.01 par value, and Common Stock Purchase Rights (“Securities”) from listing and registration on the Pacific Exchange, Inc. (“PCX”).

¹ 15 U.S.C. 781(d).

² 17 CFR 240.12d2-2(d).

The Board of Directors (“Board”) of the Issuer approved a resolution on July 9, 2001 to withdraw its Securities from listing on the Exchange. The Board believes that it is in its best interest to reduce its listing expenses and corporate oversight by limiting the number of exchanges on which the securities are listed. The Issuer will continue to list its Common Stock on the New York Stock Exchange, Inc. (“NYSE”).

The Issuer states in its application that it has met the requirements of the PCX by complying with all applicable laws in effect in the state of New Jersey, in which it is incorporated, and with the PCX's rules governing an issuer's voluntary withdrawal of a security from listing and registration. The Issuer's application related solely to the withdrawal of the Securities from the PCX and shall have no affect upon its listing on the NYSE or its registration under Section 12(b) of the Act.³

³ 15 U.S.C. 781(b).

Any interested person may, on or before October 12, 2001, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 01-24178 Filed 9-26-01; 8:45 am]

BILLING CODE 8010-01-M